Title 3—

The President

Proclamation 10321 of December 9, 2021

Human Rights Day and Human Rights Week, 2021

By the President of the United States of America

A Proclamation

In the wake of the devastation of the Second World War, leaders from around the world came together with a shared vision to promote a safer future for all nations by securing and advancing the human rights of everyone, everywhere. On December 10, 1948, thanks to the moral leadership and service of Eleanor Roosevelt as the first Chairperson of the Commission on Human Rights, the world took an enormous step forward with the creation of the Universal Declaration of Human Rights (UDHR).

The UDHR enshrines the human rights and fundamental freedoms inherent in all people—no matter who they are, where they come from, or whom they love. It is a foundational document that proclaims a truth too often overlooked or ignored—that “all human beings are born free and equal in dignity and rights.” From the root of this universal ideal has sprung transformational human rights treaties and a global commitment to advance equality and dignity for all as the foundation of freedom, peace, and justice. As a world, we have yet to achieve this goal, and we must continue our efforts to bend the arc of history closer to justice and the shared values that the UDHR enshrines. Just as we advocated for the recognition of universal human rights following World War II, the United States today remains steadfast in our commitment to advancing the human rights of all people—and to leading not by the example of our power but by the power of our example.

Since taking office, my Administration has put human rights at the center of our domestic and foreign policy priorities. We immediately declared our intention to rejoin the United Nations Human Rights Council, and with the widespread support of the international community, our Nation was elected to a new term beginning on January 1, 2022. As a member of the Council, we will highlight the vital importance of democracy as we work to protect human rights and hold accountable those who would violate these rights and freedoms. We will continue to call out human rights violations wherever they occur, support brave activists on the front lines of protecting fundamental freedoms, and invest in strengthening the rule of law.

As a global champion for democracy, we must also continue the unceasing work of strengthening our own democracy and building a more perfect union. Leading by example is one of the most powerful and persuasive foreign policy tools at our disposal. From day one of my Administration, we have taken concrete steps to reassert our moral leadership on the global stage. On my first day in office, I signed an Executive Order to advance racial equity and support for underserved communities. As part of our once-in-a-generation investment in our Nation's physical infrastructure, we are also strengthening equitable access to our shared resources and environment, including providing additional support for historically underserved communities.

Unfortunately, discrimination and violence are challenges that too many Americans still face in their own communities. Throughout our Nation's history, generations of Black and Brown Americans, Indigenous persons, people with disabilities, LGBTQ+ Americans, immigrants, women and girls, and members of religious, ethnic, and other historically marginalized groups have faced heightened threats to their human rights and dignity. Today, we know that our efforts to defend human rights around the world are stronger because we acknowledge and seek to remedy our own historical challenges as part of that same fight. Leading by example means speaking honestly about the past, upholding the truth, and striving constantly to improve.

This year, as we commemorate Human Rights Day, my Administration will bring together global leaders, civil society organizations, and representatives from the private sector for the first Summit for Democracy. Working together, we will recommit ourselves to promoting respect for human rights and combating growing threats to democracy, including authoritarianism and corruption. We will speak honestly about the challenges we face, and we will identify meaningful new actions and commitments to advance our shared goals.

I call upon all Americans to keep the words of the Reverend Dr. Martin Luther King, Jr. in their hearts: “injustice anywhere is a threat to justice everywhere.” Let us all dedicate ourselves to bringing our Nation and our world closer to a future in which every human being is free to pursue their highest dreams and unleash their full potential.

NOW, THEREFORE, I, JOSEPH R. BIDEN JR., President of the United States of America, by virtue of the authority vested in me by the Constitution and the laws of the United States, do hereby proclaim December 10, 2021, as Human Rights Day and the week beginning December 10, 2021, as Human Rights Week. I call upon the people of the United States to mark these observances with appropriate ceremonies and activities.

IN WITNESS WHEREOF, I have hereunto set my hand this ninth day of December, in the year of our Lord two thousand twenty-one, and of the Independence of the United States of America the two hundred and forty-sixth.

[FR Doc. 2021-27284

Filed 12-14-21; 8:45 am]

Billing code 3395-F2-P